DEPARTMENT OF HEALTH AND HUMAN SERVICES

Health Resources and Services Administration

Notice of Withdrawal

AGENCY: Health Resources and Services Administration.

ACTION: Notice; withdrawal.

SUMMARY: In the Federal Register notice of Wednesday, August 18, 1999, in FR Doc. 99-21257, on page 45025, the grant category beginning in the third column under the heading “State and Local Data Utilization and Enhancement (DUE) Cooperative Agreements, CFDA# 93.110U,” is withdrawn from competition because of insufficient funds to support the full scope of proposed activities published in the announcement. Prospective applicants who have submitted letters of intent or requested application materials have been notified directly of this withdrawal.

DATES: A successor competition will be announced shortly in the Federal Register for funding in this grant category under modified guidelines that will adjust project expectations to available funding. Application guidance for the successor competition will be available by April 21, 2000, by telephoning 1-877-477-2123 (or 1-877-HRSA-123) and providing the CFDA number (CFDA# 93.110U). The deadline for receipt of applications is July 3, 2000.

FOR FURTHER INFORMATION CONTACT: Russ Scarato or Michael Kogan, Ph.D., Office of Data and Information Management, Maternal and Child Health Bureau, Health Resources and Services Administration, Room 18A-55, Parklawn Building, 5600 Fishers Lane, Rockville, MD 20857; telephone 1-301-443-0700 or 1-301-443-0701.

Dated: March 24, 2000.
James J. Corrigan,
Associate Administrator for Management and Program Support.

[FR Doc. 00-7821 Filed 3-29-00; 8:45 am]

BILLING CODE 4160-15-P